DEPARTMENT OF COMMERCE

National Oceanic and Atmospheric Administration

[I.D. 061803F]

Proposed Information Collection; Comment Request; Southeast Region Permit Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 25, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Robert Sadler, (727)570-5326 or Robert.Sadler@noaa.gov.

SUPPLEMENTARY INFORMATION:

I. Abstract

Participants in federally regulated fisheries are required to obtain Federal fishing permits. Certain permit actions may be appealed. Permitted vessels are also required to provide certain notifications prior to trips or other specified actions. Coupons are required in the wreckfish fishery to track Individual Transferable Quotas.

NOAA needs information from the applications for the identification of fishing vessels and dealers and the management of the fisheries. Use of permits also aids in enforcement of fishery regulations.

II. Method of Collection

Notifications are made by telephone. Applications and other documentation must be submitted in paper form.

III. Data

OMB Number: 0648-0205.

Form Number: None.

Type of Review: Regular submission.

Affected Public: Business or other for-profit organizations, individual or households.

Estimated Number of Respondents: 10,500.

Estimated Time Per Response: 20 minutes for a vessel permit or an aquacultured live rock site permit; 2 hours for additional moratorium permit application documentation in the reef fish/coastal migratory pelagic charter fisheries; 5 minutes for a dealer permit; 2 hours for a stone crab permit appeal; 45 minutes for an aquacultured live rock site evaluation form; 15 minutes for a notification/authorization for trap retrieval; 5 minutes for other notifications; 5 minutes for a coupons for tracking an Individual Transferable Quota in the wreckfish fishery; 5 hours for a permit appeal in the reef fish and coastal migratory pelagic moratorium fisheries; and 5 hours for a commercial vessel permit documentation in the stone crab fishery.

Estimated Total Annual Burden Hours: 15,434.

Estimated Total Annual Cost to Public: $1,222,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 17, 2003.
Gwellnar Banks,
Management Analyst, Office of the Chief Information Officer.

[FR Doc. 03-15947 Filed 6-23-03; 8:45 am]

BILLING CODE 3510-22-S